DEPARTMENT OF TRANSPORTATION

Federal Transit Administration

Safety Advisories 22-1 Rail Car Passenger Door Inspection and Function Testing and 22-2 Signal System Safety and Train Control

AGENCY: Federal Transit Administration (FTA), Department of Transportation (DOT).

ACTION: Notice of safety advisories.

SUMMARY: The Federal Transit Administration (FTA) is issuing Safety Advisory 22-1 (SA 22-1) to recommend that State Safety Oversight Agencies (SSOAs) direct Rail Transit Agencies (RTAs) that operate Rail Fixed Guideway Public Transportation Systems in their jurisdictions to evaluate the sufficiency of rail car passenger door inspection and function testing procedures. FTA is issuing Safety Advisory 22-2 (SA 22-2) to recommend that SSOAs direct RTAs that operate Rail Fixed Guideway Public Transportation Systems in their jurisdictions to consider signal system safety and train control as part of the RTA's Safety Risk Management (SRM) process. In addition, FTA recommends SSOAs incorporate SA 22-2 into their oversight activities. FTA SA 22-1 “Rail Car Passenger Door Inspection and Functional Testing” and SA 22-2 “Signal System Safety and Train Control” are available in their entirety on the agency's public website: (https://www.transit.dot.gov/regulations-and-guidance/safety/fta-safety-advisories).

DATES: FTA recommends that SSOAs direct RTAs within their jurisdiction to evaluate the sufficiency of rail car passenger door inspection and function testing procedures, and to consider signal system safety and train control as part of the RTA's SRM process on an as-needed basis for SA 22-1 and SA 22-2 by November 14, 2022. In addition, FTA recommends that SSOAs obtain any completed risk assessments and any associated risk mitigations from the RTAs for SA 22-2 by April 11, 2023.

FOR FURTHER INFORMATION CONTACT: Joseph DeLorenzo, Associate Administrator for Transit Safety and Oversight and Chief Safety Officer, FTA, telephone (202) 366-1783 or Joseph.DeLorenzo@dot.gov.

Authority: 49 U.S.C. 5329; 49 CFR 1.91 and 670.29.

Nuria I. Fernandez,
Administrator.

[FR Doc. 2022-22278 Filed 10-12-22; 8:45 am]

BILLING CODE 4910-57-P